DEPARTMENT OF TRANSPORTATION

Surface Transportation Board

[STB Finance Docket No. 34544]

Tazewell & Peoria Railroad, Inc.-Lease and Operation Exemption—Peoria and Pekin Union Railway Company

Tazewell & Peoria Railroad, Inc. (TPR), a noncarrier, has filed a notice of exemption under 49 CFR 1150.31 to lease and operate approximately 19.9 miles of rail line currently owned by Peoria and Pekin Union Railway Company (PPU), extending from: (1) Approximately milepost 0.0 (at or near Peoria, IL, Union Station) to approximately milepost 9.2 (at or near Pekin, IL, IC Junction); (2) approximately milepost 0.0 (at or near Peoria, IL, Union Station) to approximately milepost 3.87N (at or near Iowa Interstate Junction, IL); (3) approximately milepost 0.0 (at or near Peoria, IL, Peoria Wye) to approximately milepost 5.1W (at or near P&PU Junction, IL); and (4) approximately Wesley Junction, IL, to approximately East Peoria, IL (approximately 1.7 miles of track; milepost designations are not available), in Tazewell and Peoria Counties, IL. In addition, TPR will acquire from PPU incidental trackage rights over approximately 1.7 miles of main-line track owned by Union Pacific Railroad Company from approximately milepost 4.0 (at or near P&PU Junction) to approximately milepost 5.7 (at or near Sommer, IL), in Peoria County, IL. TPR certifies that its projected annual revenues will not exceed those that would qualify it as a Class III rail carrier. Although not stated, it appears as though TPR's projected annual revenues will exceed $5 million, as TPR has complied with the posting and service requirements of 49 CFR 1150.32(e). In accordance with that section, the transaction cannot be consummated before October 29, 2004, the effective date of the exemption.

This proceeding is related to Genesee & Wyoming, Inc.—Continunance in Control Exemption—Tazewell & Peoria Railroad, Inc., STB Finance Docket No. 34545, wherein Genesee & Wyoming, Inc., a noncarrier, has concurrently filed a petition for exemption to continue in control of TPR upon TPR's becoming a carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34544, must be filed with the Surface Transportation Board, 1925 K Street, NW., Washington, DC 20423-0001. In addition, one copy of each pleading must be served on Jo A. DeRoche, Weiner Brodsky Sidman Kider PC, 1300 19th Street, NW., Fifth Floor, Washington, DC 20036-1609.

Board decisions and notices are available on our Web site at http://www.stb.dot.gov.

Dated: Decided: September 21, 2004.
By the Board, David M. Konschnik, Director, Office of Proceedings.
Vernon A. Williams,
Secretary.

[FR Doc. 04-21679 Filed 9-27-04; 8:45 am]

BILLING CODE 4915-01-P